DEPARTMENT OF HOUSING AND URBAN DEVELOPMENT

[Docket No. FR-4966-N-05]

The Performance Review Board

AGENCY: Office of the Deputy Secretary, HUD.

ACTION: Notice of Appointments.

SUMMARY: The Department of Housing and Urban Development announces the appointments of Bryan A. Greene, James M. Martin, Jean Lin Pao, and Robert W. Young as members; and Camille E. Acevedo and Jon L. Gant as alternate members of the Departmental Performance Review Board. The address is: Department of Housing and Urban Development, Washington, DC 20410-0050.

FOR FURTHER INFORMATION CONTACT: Persons desiring any further information about the Performance Review Board and its members may contact Earnestine Pruitt, Director, Executive Personnel Management Division, Department of Housing and Urban Development, Washington, DC 20410. Telephone (202) 708-1381. (This is not a toll-free number.)

Dated: October 26, 2007.
Roy A. Bernardi,
Deputy Secretary.

[FR Doc. E7-21618 Filed 11-1-07; 8:45 am]

BILLING CODE 4210-67-P